DEPARTMENT OF HEALTH AND HUMAN SERVICES

Administration for Children and Families

Proposed Information Collection Activity: Comment Request

Proposed Projects

Title: Evaluation of the Mentoring Children of Prisoners (MCP) Program.

OMB No. New Collection.

Description: The Promoting Safe and Stable Families Amendments, as reauthorized (2006), amended Title IV-B of the Social Security Act (42 U.S.C. 629-629e) providing funding for nonprofit agencies that recruit, screen, train, and support mentors for children with an incarcerated parent or parents. The Family and Youth Services Bureau (FYSB) of the Administration for Children and Families, United States Department of Health and Human Services, administers the Mentoring Children of Prisoners (MCP) program. The MCP program provides children of prisoners with caring adult mentors, supporting one-to-one mentoring relationships. Research in other populations has shown that such relationships can lead to reductions in risk behaviors and improvements in academic, behavioral and psychological outcomes in children and youth. Although the MCP program was developed based on research documenting the efficacy of mentoring as a general intervention strategy, it is not yet known whether or not this particular intervention yields positive outcomes for the children of prisoners population. Little is known about how mentoring relationships work for these youth, and how effective mentoring relationships for children of prisoners differ from effective mentoring relationships for other youth. In addition, little is known about children of prisoners in general and thus a survey of MCP program youth has the potential to provide important data about this relatively unstudied population.

The evaluation and data collection proposed in this notice are to fulfill the statutory requirement under Section 8, subsection h(1) of the Child and Family Services Improvement Act of 2006, as amended, that the Secretary of the Department of Health and Human Services evaluate outcomes of the MCP program and report to Congress on the findings. The proposed data collections will support a study of the MCP program that measures the program's child outcomes and compares these outcomes in similar programs. The data collection also will provide general information about youth in the program. Finally, the study will include an administrative survey of grantees participating in the study. The proposed study will include baseline and follow-up surveys (to be administered approximately 12 months apart) of youth ages 9-16 in the MCP program and will compare changes in key behaviors for program youth against changes in behaviors of similar youth not enrolled in mentoring programs. By comparing changes for youth in the MCP program against changes for youth not in the program, we will be able to determine if MCP youths' behaviors are closer to the norm for their age group at follow-up than at program intake. If MCP youths' behaviors and outcomes are shown to improve relative to other groups, the MCP program has demonstrated the potential for positive impacts. The survey also will include some general informational questions about youth in the study so that HHS, policy makers, and practitioners can have a greater understanding of the life circumstances of these youth and of some of the challenges they may face.

The youth surveys will focus on measuring both attitudinal and behavioral changes in areas targeted by the MCP program including attitudes towards and performance in school; relationships with parents, peers and teachers; self-esteem; and engagement in a variety of risk behaviors, including alcohol and drug use and physical violence. They also will include questions about the living situations of youth in the study, their relationships with both incarcerated and non-incarcerated caregivers, and their relationships with other supportive adults in their communities.

The administrative survey of grantees will include questions about the programmatic structure of each grantee. It will provide information about variations in program administration, mentor activities, and youth served.

Respondents: The proposed study sample consists of a cohort of 625 youth ages 9-16 in MCP programs operated at 10 or more different program sites. Survey data will also be collected from approximately 72 grantees.

Annual Burden Estimates
Instrument | Number of respondents | Number of responses per respondent | Average burden hours per response | Total burden hours
Student Baseline Survey | 625 | 1 | .5 | 312.5
Student follow-up Survey | 500 | 1 | .5 | 250
Grantee Survey | 72 | 1 | 1 | 72

Estimated Total Annual Burden Hours: 634.5

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 8, 2006.
Robert Sargis,
Reports Clearance Officer.

[FR Doc. 06-9666 Filed 12-12-06; 8:45 am]

BILLING CODE 4184-01-M